DEPARTMENT OF AGRICULTURE

Departmental Management; Advisory Committee on Minority Farmers

AGENCY: USDA.

ACTION: Notice: Request for Nominations.

SUMMARY: The Secretary of Agriculture (Secretary) establish the Advisory Committee on Minority Farmers (Committee) on December 2, 2009. The purpose of the Committee is to advise the Secretary on methods of outreach and assistance to socially disadvantaged farmers and ranchers, methods of maximizing participation of minority farmers and ranchers in Department of Agriculture (USDA) programs and civil rights activities related to program participation. This notice invites nominations for persons to serve on the Committee.

DATES: Nominations for membership on the Committee must be received by May 24, 2010.

ADDRESSES: Send nominations to Elaine Hauhn, Designated Federal Official (DFO) for the Advisory Committee on Minority Farmers, Office of Advocacy and Outreach, U.S. Department of Agriculture, 1400 Independence Avenue, SW., Whitten Building, 240W, Washington, DC 20250-0522.

FURTHER INFORMATION CONTACT: Elaine Hauhn at (202) 720-1229; Fax (202) 720-2191; E-mail: Elaine Haun@osec.usda.gov.

SUPPLEMENTARY INFORMATION: As required by Section 14008 of the Food, Conservation and Energy Act of 2008 (P.L. 110-246), the Secretary established the Committee to provide advice on: (1) The implementation of section 2501 of the Food, Agriculture, Conservation, and Trade Act of 1990 which directs the Secretary of Agriculture to provide outreach and assistance to socially disadvantaged farmers and ranchers (2) methods of maximizing the participation of minority farmers and ranchers in USDA programs; and (3) civil rights activities within the USDA as such activities relate to participants in such programs.

The law requires that the Committee be composed of not more than 15 members including: (1) Not less than four socially disadvantaged farmers or ranchers (as defined in section 2501 (e)(2) of the Food, Agriculture, Conservation, and Trade Act of 1990 (7 U.S.C. 2279 (e)(2))); (2) not less than two representatives of nonprofit organizations with a history of working with minority farmers and ranchers; (3) not less than two civil rights professionals; (4) not less than two representatives of institutions of higher education with demonstrated experience working with minority farmers and ranchers; and (5) such other persons as the Secretary considers appropriate. The Secretary may appoint such employees of the USDA as the Secretary considers appropriate to serve as ex-officio members of the Committee.

The Secretary invites these individuals, organizations, and interest groups affiliated with the categories listed above to nominate individuals for membership on the committee. Nominations should describe and document the proposed members qualifications for membership on the Committee and may be in the form of a letter of nomination or a completed Advisory Committee Membership background Information Questionnaire (Form AD-755).

Persons nominated for the Committee will be required to complete and submit an Advisory Committee Membership Background Information Questionnaire (Form AD-755). Form AD-755 is available on the Internet at http://www.fsa.usda.gov/Internet/FSA_File/ad755.pdf. Questionnaires may be completed on-line. However, nominees must print their completed forms from the Adobe PDF file, sign, and mail or fax them to the above address or fax number. The form may also be requested by telephone, fax, or e-mail. All inquiries about the nomination process and submissions of the AD-755 should be made to Elaine Hauhn at the address and numbers listed above.

Appointments to the Committee will be made by the Secretary of Agriculture. Equal opportunity practices, consistent with USDA policies, will be followed in making all appointments to the Committee. To ensure that recommendations of the Committee have taken into account the needs of the diverse groups served by the Department, membership shall include, to the extent practicable, individuals with demonstrated ability to represent minorities, women and persons with disabilities.

Signed in Washington, DC, on this 7th day of March 2010.
Robin E. Heard,
Acting Assistant Secretary for Administration, United States Department of Agriculture.

[FR Doc. 2010-9253 Filed 4-21-10; 8:45 am]

BILLING CODE P